OFFICE OF SCIENCE AND TECHNOLOGY POLICY

Ocean Climate Action Plan

AGENCY: Office of Science and Technology Policy (OSTP).

ACTION: Notice of request for information.

SUMMARY: The Office of Science and Technology Policy (OSTP) and the Council on Environmental Quality (CEQ), on behalf of the interagency Ocean Policy Committee (OPC), request input from all interested parties to inform the development of a U.S. Ocean Climate Action Plan (OCAP) that will help guide and coordinate actions by the Federal government and civil society to address ocean, coastal, and Great Lakes-based mitigation and adaptation solutions to climate change. The OCAP will summarize planned Federal ocean-based climate action and the benefits of these actions, identify gaps in knowledge and application of knowledge to emerging ocean-climate issues, and recommend actions to advance the effectiveness of the Nation's response to the impacts of climate change. The input received will be used to inform the development of the OCAP.

DATES: Responses are due by 11:59 p.m. eastern time on November 18, 2022. Submissions received after the deadline may not be taken into consideration.

ADDRESSES: Interested individuals and organizations should submit comments electronically to ocean@ostp.eop.gov and include “RFI Response: OCAP” in the subject line of the email. Email submissions should be machine-readable (PDF, Word) and should not be locked or password protected.

Instructions: Response to this RFI is voluntary. Each individual or organization is requested to submit only one response. Commenters can respond to one or many questions. Submissions are suggested to not exceed a total of five (5) pages in 12 point or larger font. Submissions should clearly indicate which questions are being addressed. Responses should include the name of the person(s) or organization(s) filing the response. Responses containing references, studies, research, and other empirical data that are not widely published should include copies of or electronic links to the referenced materials. Responses containing profanity, vulgarity, threats, or other inappropriate language or content will not be considered.

OSTP or CEQ may post responses to this RFI, without change, on their websites. OSTP and CEQ, therefore, request that no business proprietary information, copyrighted information, or personally identifiable information be submitted in response to this RFI. Please note that the U.S. Government will not pay for response preparation, or for the use of any information contained in the response.

FOR FURTHER INFORMATION CONTACT: Scott Doney, 202-456-4444, Scott.C.Doney@ostp.eop.gov.

SUPPLEMENTARY INFORMATION:

Background: Urgent and immediate action is needed to tackle the climate crisis through mitigation of and adaptation to the impacts of climate change. Climate change threatens valuable marine resources and the communities that depend on them. The ocean, as a critical heat and carbon sink and with capacities for both mitigation and adaptation climate solutions, is an integral component of the Biden-Harris Administration's “all-hands-on-deck” approach to climate action.

Examples of ocean-based climate solutions include: harnessing ocean renewable energy, protecting and restoring ecosystems that sequester carbon and support biological diversity, expanding the extent and level of protection of marine protected areas, pursuing responsible and efficacious ocean-based carbon dioxide removal and sequestration, and decarbonizing shipping. These ocean-based climate solutions can also provide abundant co-benefits, including good-paying jobs, sustainable livelihoods and communities, and healthier ocean ecosystems that support future discovery and innovation. Ocean-based climate solutions can also provide an opportunity to advance more equitable access to the benefits provided by the ocean to people, and to create a diverse workforce.

The Biden-Harris Administration has set goals and directed action for many of these opportunities, including to:

• provide 40% of overall benefits of Federal investment relating to climate change and other areas to disadvantaged communities (Executive Order 14008: Tackling the Climate Crisis at Home and Abroad, January 27, 2021; https://www.whitehouse.gov/briefing-room/presidential-actions/2021/01/27/executive-order-on-tackling-the-climate-crisis-at-home-and-abroad/);

• produce 30 gigawatts of energy from offshore wind by 2030 (FACT SHEET: Biden Administration Jumpstarts Offshore Wind Energy Projects to Create Jobs, March 29, 2021; https://www.whitehouse.gov/briefing-room/statements-releases/2021/03/29/fact-sheet-biden-administration-jumpstarts-offshore-wind-energy-projects-to-create-jobs/);

• conserve at least 30% of U.S. lands and waters by 2030 (Executive Order 14008: Tackling the Climate Crisis at Home and Abroad, January 27, 2021; https://www.whitehouse.gov/briefing-room/presidential-actions/2021/01/27/executive-order-on-tackling-the-climate-crisis-at-home-and-abroad/);

• working with the International Maritime Organization, achieve zero emissions from international shipping by no later than 2050 (FACT SHEET: President Biden's Leaders Summit on Climate, April 23, 2021; https://www.whitehouse.gov/briefing-room/statements-releases/2021/04/23/fact-sheet-president-bidens-leaders-summit-on-climate/).

More than 20 Federal agencies have developed adaptation and resilience plans in response to Executive Order 14008 (FACT SHEET: Biden Administration Releases Agency Climate Adaptation and Resilience Plans from Across Federal Government, October 7, 2021; https://www.whitehouse.gov/briefing-room/statements-releases/2021/10/07/fact-sheet-biden-administration-releases-agency-climate-adaptation-and-resilience-plans-from-across-federal-government/).

To outline a vision for ocean climate action, the Ocean Policy Committee, a Congressionally mandated, Cabinet-level interagency committee charged with coordinating Federal ocean policy, (https://www.noaa.gov/interagency-ocean-policy), will develop an Ocean Climate Action Plan (OCAP) that will: (1) summarize and assess current and planned Federal, ocean-related mitigation and adaptation activities, including but not necessarily limited to green shipping, blue carbon, biodiversity conservation and protection, ecosystem restoration, nature-based solutions, marine renewable energy, ocean-based carbon dioxide removal and sequestration, climate-ready aquaculture and fisheries, and other ocean-climate related actions; (2) characterize the benefits (e.g., mitigation, adaptation, and associated co-benefits) of such actions and how they contribute to Administration climate change and equity and environmental justice goals; (3) identify needs and opportunities to more effectively address climate change impacts through additional mitigation or adaptation actions; and (4) identify how we can utilize current knowledge to support existing action, and define new knowledge needed to better understand and address important emerging issues such as ocean-based carbon dioxide removal.

Questions To Inform Development of the Plan

Respondents may provide information for one or as many topics below as they choose. Submissions should clearly indicate which questions are being addressed.

An interagency workgroup co-led by the Department of the Interior, the National Oceanic and Atmospheric Administration, and the National Science Foundation, in partnership with the CEQ, the OSTP, the National Climate Task Force, and other Federal agencies and entities, will develop the OCAP with input from the public, States, Tribal Nations, scientists, and a wide range of stakeholders. While agencies and the workgroup have received ad hoc recommendations on ocean-climate solutions, this request for information offers a formal comment period to collect input specific to the development of the OCAP. The group is seeking input from the public on the following:

1. Background information. Please briefly describe the role that you/your organization has in ocean-based climate solutions. If relevant, please describe how you/your organization engages with underserved communities.

2. Critical Actions. What ocean-based climate solutions should be considered, and over what time scales? What are specific examples of ocean-based climate mitigation and adaptation activities that the United States should seek to advance? Which are higher priority? Are there actions that should be avoided, and if so, why?

3. Knowledge, Science, and Technology. What kind of research is needed to implement and evaluate the effectiveness and impacts of ocean-based climate solutions? How can Indigenous knowledge be highlighted to inform solutions? What are important questions, issues, and unknowns that need to be addressed? What existing technologies might advance implementation of ocean-based climate solutions, and what innovations are needed?

4. Environmental Justice, Diversity, Equity, and Inclusion. How can the benefits of ocean-based climate solutions be shared equitably? How should we engage communities in local implementation? How should we ensure that ocean-based climate solutions are implemented in ways that do not harm underserved communities? What opportunities exist for training and employing a diverse and inclusive blue workforce in implementing ocean-based climate solutions?

5. Partnerships and Collaboration. What solutions can/should come from outside of government? Where and how can the Federal government partner with external stakeholders across regions and sectors to effectively mitigate and adapt to climate change through ocean-based climate solutions?

6. Additional Comments: Please provide any other input that you believe is pertinent to this RFI, within the page limit.

Please note that the OCAP will also inform the OPC's work to develop a National Strategy for a Sustainable Ocean Economy (National Strategy), which will describe a vision and set high-level goals for the sustainable management of the Nation's ocean, coasts, and Great Lakes, and frame development of a national plan towards a sustainable ocean economy. For more information, see https://www.noaa.gov/interagency-ocean-policy. OSTP and CEQ will solicit public comment on the National Strategy through public notice in the Federal Register.

Dated: September 29, 2022.
Stacy Murphy,
Operations Manager.

[FR Doc. 2022-21480 Filed 10-3-22; 8:45 am]

BILLING CODE 3270-F8-P